DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to allow a proposed information collection project: “Primary Care Network Survey (PRINS)”. In accordance with the Paperwork Reduction Act as amended (see in particular 44 U.S.C. 3506(c)(2)(A)), AHRQ invites the public to comment on this proposed information collection request to allow AHRQ to conduct research in primary care settings.

DATES: Comments on this notice must be received by August 20, 2001.

ADDRESSES: Written comments should be submitted to: Cynthia D. McMichael, Reports Clearance Officer, AHRQ, 2101 East Jefferson Street, Suite 500, Rockville, MD 20852-4908.

All comments will become a matter of public record.

FOR FURTHER INFORMATION CONTACT: Cynthia D. McMichael, AHRQ, Reports Clearance Officer, (301) 594-3132.

SUPPLEMENTARY INFORMATION:

Primary Care Network Survey (PRINS)

As directed in its reauthorization legislation, AHRQ supports activities designed to improve the capacity of practice-based research networks (PBRNs) to conduct research in primary care settings. A PBRN is a group of ambulatory practices devoted principally to the primary care of patients, affiliated with each other in order to investigate questions related to community-based practice. AHRQ has recently established cooperative agreements with 19 PBRNs who have specifically been asked to conduct network-defining surveys using the 1999-2000 version of the National Ambulatory Medicare Care Survey (NAMCS) instrument (OMB No. 0920-0234). To distinguish data collected through the survey from NAMCS data collected from the nationally representative physician sample of the National Center for Health Statistics, CDC, this survey will be known as the Primary Care Network Survey (PRINS).

Method of Collection

PRINS will provide a range of baseline data on the clinicians enrolled in each network, the services provided, and the characteristics of patients receiving those services. Data to be collected include the patients' demographic characteristics and reason(s) for visit, and the providers' diagnosis(es) and diagnostic services, medications and disposition. These data may be used by the PBRN to define the network's capacity to study specific clinical conditions seen in primary care, establish a denominator for epidemiological or surveillance studies, and stimulate further research on the use, organization and delivery of primary care. All identifiable data that is collected will be protected in accordance with the AHRQ confidentiality statute, 42 U.S.C 299c-3(c).

The estimated annual hour burden is as follows:

Form | Number of respondents (clinicians) | Number of forms/respondent | Avg. burden/form (in hrs) | Response burden (hrs)
| (1) | (2) | (3) | (1)*(2)*(3) ¹
Intake Form | 1,000 | 1 | .25 | 250
Patient Form | 1,000 | 30 | .03 | 900
Total | 1,000 | 31 | 1.15 | 1,150
¹ For rows 1 and 2.

To calculate the burden hours, the number of respondents for PRINS is based on a sample of 1,000 clinicians who have agreed in advance to participate. Each clinician fills out an intake form (which requires about 15 minutes).

The same 1,000 then record (on separate forms) information about 30 consecutive patients seen in his/her practice (requiring less than 2 minutes per form to complete). The total cost to respondents is estimated to be $150,000.

Request for Comments

Comments are invited on: (a) The necessity of the proposed collections; (b) the accuracy of the Agency's estimate of burden (including hours and cost) of the proposed collection of information; (c) ways to enhance the quality, utility and clarity of the information to be collected; and (d) ways to minimize the burden of the collection of information upon the respondents, including the use of automated collection techniques or other forms of information technology.

Comments submitted in response to this notice will be summarized and included in the request for OMB approval of the proposed information collection. All comments will become a matter of public record.

Copies of these proposed collection plans and instruments can be obtained from the AHRQ Reports Clearance Officer (see above).

Dated: June 8, 2001.
Carolyn Clancy,
Acting Director.

[FR Doc. 01-15288 Filed 6-18-01; 8:45 am]

BILLING CODE 4160-90-M